DEPARTMENT OF HOMELAND SECURITY

Federal Emergency Management Agency

[Docket ID FEMA-2017-0002; Internal Agency Docket No. FEMA-B-1768]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: November 11, 2017.
Roy E. Wright,
Deputy Associate Administrator for Insurance and Mitigation, Department of Homeland Security, Federal Emergency Management Agency.

State and county | Location and case No. | Chief executive officer of community | Community map repository | Online location of letter of map revision | Date of modification | Community No.
Arizona: Maricopa | Unincorporated Areas of Maricopa County (17-09-1905P) | The Honorable Denny Barney, Chairman, Board of Supervisors, Maricopa County, 301 West Jefferson Street 10th Floor, Phoenix, AZ 85003 | Flood Control District of Maricopa County, 2801 West Durango Street, Phoenix, AZ 85009 | https://msc.fema.gov/portal/advanceSearch | Mar. 2, 2018 | 040037
California:
Fresno | City of Clovis (16-09-2874P) | The Honorable Bob Whalen, Mayor, City of Clovis, 1033 5th Street, Clovis, CA 93612 | Planning and Development, 1033 5th Street, Clovis, CA 93612 | https://msc.fema.gov/portal/advanceSearch | Mar. 12, 2018 | 060044
San Diego | City of Carlsbad (17-09-2475P) | The Honorable Matt Hall, Mayor, City of Carlsbad, 1200 Carlsbad Village Drive, Carlsbad, CA 92008 | City Hall, 1200 Carlsbad Village Drive, Carlsbad, CA 92008 | https://msc.fema.gov/portal/advanceSearch | Mar. 12, 2018 | 060285
San Diego | City of Oceanside (18-09-0027X) | The Honorable Jim Wood, Mayor, City of Oceanside, 300 North Coast Highway, Oceanside, CA 92054 | City Hall, 300 North Coast Highway, Oceanside, CA 92054 | https://msc.fema.gov/portal/advanceSearch | Feb. 27, 2018 | 060294
Hawaii: Maui | Maui County (16-09-2407P) | The Honorable Alan M. Arakawa, Mayor, Maui County, 200 South High Street, Kalana O Maui Building 9th Floor, Wailuku, HI 96793 | County of Maui Planning Department, 200 Main Street, Suite 315, Wailuku, HI 96793 | https://msc.fema.gov/portal/advanceSearch | Mar. 5, 2018 | 150003
Florida: St. Johns | Unincorporated Areas of St. Johns County (17-04-6598P) | Mr. James K. Johns, Chair, Board of County Commissioners, 500 San Sebastian View, St. Augustine, FL 32084 | St. Johns County Administration Building, 4020 Lewis Speedway, St. Augustine, FL 32084 | https://msc.fema.gov/portal/advanceSearch | Mar. 2, 2018 | 125147
Idaho:
Teton | City of Victor (17-10-1027P) | The Honorable Jeff Potter, Mayor, City of Victor, 32 Elm Street, Victor, ID 83455 | City Hall, 32 Elm Street, Victor, ID 83455 | https://msc.fema.gov/portal/advanceSearch | Feb. 9, 2018 | 160119
Teton | Unincorporated Areas of Teton County (17-10-1027P) | The Honorable Mark R. Ricks, Chairman, Teton County Board of Commissioners, 150 Courthouse Drive, Driggs, ID 83422 | Teton County Courthouse, 150 Courthouse Drive, Driggs, ID 83422 | https://msc.fema.gov/portal/advanceSearch | Feb. 9, 2018 | 160230
Michigan:
Oakland | City of Farmington Hills (17-05-4122P) | The Honorable Kenneth Massey, Mayor, City of Farmington Hills, City Hall, 31555 West Eleven Mile Road, Farmington Hills, MI 48336 | City Hall, 31555 West Eleven Mile Road, Farmington Hills, MI 48336 | https://msc.fema.gov/portal/advanceSearch | Feb. 23, 2018 | 260172
Oakland | City of Novi (17-05-0556P) | The Honorable Bob Gatt, Mayor, City of Novi, Civic Center, 45175 Ten Mile Road, Novi, MI 48375 | Civic Center, 45175 Ten Mile Road, Novi, MI 48375 | https://msc.fema.gov/portal/advanceSearch | Feb. 23, 2018 | 260175
Oakland | City of Novi (17-05-4122) | The Honorable Bob Gatt, Mayor, City of Novi, Civic Center, 45175 Ten Mile Road, Novi, MI 48375 | Civic Center, 45175 Ten Mile Road, Novi, MI 48375 | https://msc.fema.gov/portal/advanceSearch | Feb. 23, 2018 | 260175
Missouri: Clay | City of Gladstone (17-07-0895P) | The Honorable R.D. Mallams, Mayor, City of Gladstone, City Hall, 7010 North Holmes Street, Gladstone, MO 64118 | City Hall, 7010 North Holmes Street, Gladstone, MO 64118 | https://msc.fema.gov/portal/advanceSearch | Feb. 15, 2018 | 290091
New York: Queens | City of New York (17-02-1503P) | The Honorable Bill de Blasio, Mayor, City of New York, City Hall, New York, NY 10007 | New York City Department of Planning, Waterfront Division, 22 Reade Street, New York, NY 10007 | https://msc.fema.gov/portal/advanceSearch | Apr. 18, 2018 | 360497
Texas:
Collin and Dallas | City of Richardson (17-06-1790P) | The Honorable Paul Voelker, Mayor, City of Richardson, Richardson Civic Center/City Hall, 411 West Arapaho Road, Richardson, TX 75080 | City Hall, 411 West Arapaho Road Room 204, Richardson, TX 75080 | https://msc.fema.gov/portal/advanceSearch | Feb. 22, 2018 | 480184
Dallas | City of Garland (17-06-1790P) | The Honorable Douglas Athas, Mayor, City of Garland, William E. Dollar Municipal Building, 200 North 5th Street, Garland, TX 75040 | Main Street Municipal Building, 800 Main Street, Garland, TX 75040 | https://msc.fema.gov/portal/advanceSearch | Feb. 22, 2018 | 485471
Wisconsin: Outagamie | City of Appleton (17-05-3854P) | The Honorable Timothy Hanna, Mayor, City of Appleton, City Hall, 100 North Appleton Street, Appleton, WI 54911 | City Hall, 100 North Appleton Street, Appleton, WI 54911 | https://msc.fema.gov/portal/advanceSearch | Feb. 16, 2018 | 555542

[FR Doc. 2017-26808 Filed 12-12-17; 8:45 am]

BILLING CODE 9110-12-P